DEPARTMENT OF THE INTERIOR

Bureau of Land Management

[LLNVSO3100 L51010000 ER0000 LVRWF1304100.241A; 14-08807; MO# 4500060501; TAS: 14X5017]

Notice of Availability of the Record of Decision for the Final Supplemental Environmental Impact Statement and the Proposed Resource Management Plan Amendment for the Silver State Solar South Project, Clark County, NV

AGENCY: Bureau of Land Management, Interior.

ACTION: Notice of availability.

SUMMARY: The Bureau of Land Management (BLM) announces the availability of the Record of Decision (ROD) for the Silver State Solar South Project and Proposed Las Vegas Field Office Resource Management Plan (RMP) amendment. The Principal Deputy Assistant Secretary for Land and Minerals Management signed the ROD on February 14, 2014, which constitutes the final decision of the Department.

ADDRESSES: Copies of the ROD/approved RMP amendment are available for public inspection or upon request at the Southern Nevada District Office, Bureau of Land Management, 4701 N. Torrey Pines Drive, Las Vegas, NV 89130 or via the Internet at http://www.blm.gov/nv/st/en/fo/lvfo/blm_programs/energy/Silver_State_Solar_South.html.

FOR FURTHER INFORMATION CONTACT: Greg Helseth, Renewable Energy Project Manager, telephone 702-515-5173; address 4701 N. Torrey Pines Drive, Las Vegas, NV 89130; email ghelseth@blm.gov. Persons who use a telecommunications device for the deaf (TDD) may call the Federal Information Relay Service (FIRS) at 1-800-877-8339 to contact Mr. Helseth during normal business hours. The FIRS is available 24 hours a day, 7 days a week, to leave a message or question for Mr. Helseth. You will receive a reply during normal business hours.

SUPPLEMENTARY INFORMATION: Silver State Solar Power South, LLC, submitted a right-of-way (ROW) application for the construction, operation, maintenance, and termination of a 250-350 megawatt (MW) solar energy generation facility within a 13,184-acre area of public land east of Primm, Nevada. The BLM prepared a Draft and Final Supplemental Environmental Impact Statement (EIS) and proposed RMP amendment in consultation with cooperating agencies, taking into account public comments received during the National Environmental Policy Act process. The Final Supplemental EIS/proposed RMP amendment provides a framework for the future management direction and appropriate use of the project area, located in Clark County, Nevada. Because the BLM would need to amend the October 1998 Las Vegas RMP to address proposed changes in land and resource use within the project area, the Supplemental EIS/proposed RMP amendment considered land use planning decisions and implementation decisions to guide the BLM's management of the project area. The implementation decision to be made was whether to approve, approve with modifications, or deny the issuance of ROW grant applied for by Silver State Solar Power South, LLC, a wholly-owned subsidiary of First Solar, Inc. The planning decisions to be made were to: (1) Reduce the size of the Jean Lake/Roach Lake Special Recreation Management Area (SRMA) to ensure that the proposed ROW grant is in conformance with the Las Vegas Field Office RMP and to ensure a balanced use of the public lands and the resources affected by those uses; (2) Revise the Visual Resource Management classification of lands within the project footprint to ensure management is in conformance with Las Vegas Field Office RMP decisions; and (3) Designate an Area of Critical Environmental Concern (ACEC) and identify management prescriptions for a portion of the proposed ACEC nomination area. The BLM Preferred Alternative for the implementation decision was developed after release of the Draft Supplemental EIS/proposed RMP amendment to address public and agency concerns related to desert tortoise demographic connectivity within the Ivanpah Valley, and agency and public interest in a reduced-scale project. The BLM Preferred Alternative is smaller in area and electricity generation capacity is reduced to 250 MW. The BLM Preferred Alternative would disturb up to 2,427 acres of Federal land entirely within the footprint of alternatives analyzed in the Draft and Final Supplemental EIS/proposed RMP amendment, and thus involves no new areas of effect. The BLM Preferred Alternative for the RMP amendment identified in the Draft Supplemental EIS/proposed RMP amendment was to: (1) Reduce the acreage of the SRMA by the project footprint (if approved); and (2) Change the Visual Resource Management (VRM) class from VRM Class III to IV for the project footprint (if approved). In the Final Supplemental EIS/proposed RMP amendment, the BLM Preferred Alternative also included a 31,859-acre area for designation as an ACEC for desert tortoise protection and management prescriptions that would be required for the designated ACEC.

The Environmental Protection Agency and the BLM published the Notice of Availability for the Final Supplemental EIS/proposed RMP amendment concurrently in the Federal Register (78 FR 57849 and 78 FR 57880) on Friday, September 20, 2013, initiating a 30-day protest period and a 60-day Governor's consistency review. The BLM received 12 timely protests, which were resolved prior to the issuance of the ROD. The protest resolution is summarized in the ROD and is addressed in the separate Director's Protest Summary Resolution Report attached to the ROD. The proposed amendment to the Las Vegas Field Office RMP was not modified as a result of the protests received or the resolution. The Governor of Nevada conducted a consistency review of the proposed amendment to the Las Vegas Field Office RMP to identify any inconsistencies with State or local plans, policies or programs. No inconsistencies were identified by the Governor's office.

The ROD approves the BLM Preferred Alternative for the Silver State Solar South project and all mitigation measures identified in the Final Supplemental EIS/proposed RMP amendment. The ROD also approves the BLM Preferred Alternative for the RMP amendment to: (1) Remove the SRMA designation within the ROW grant area; (2) Change the VRM classification from Class III to Class IV within the ROW grant area; and (3) Designate a 31,859-acre ACEC adjacent to the ROW grant area and adopt the management prescriptions for the ACEC identified in the Final Supplemental EIS/proposed RMP amendment.

Because this decision is approved by the Principal Deputy Assistant Secretary of the Interior, it is not subject to administrative appeal (43 CFR 4.410(a)(3)).

Authority: 40 CFR 1506.6, 40 CFR 1506.10, 43 CFR 1610.2; 43 CFR 1610.5.

Neil Kornze,
Principal Deputy Director, Bureau of Land Management, U.S. Department of the Interior.

[FR Doc. 2014-03685 Filed 2-20-14; 8:45 am]

BILLING CODE 4310-HC-P